DEPARTMENT OF HEALTH AND HUMAN SERVICES

Centers for Disease Control and Prevention

[30Day-17-17IX]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Assessment of Interventions Intended to Protect Pregnant Women in Puerto Rico from Zika virus Infections—Existing Information Collection in Use Without an OMB Control Number—National Center for Emerging and Zoonotic Infectious Diseases (NCEZID), Centers for Disease Control and Prevention (CDC).

Background and Brief Description

CDC intends to request OMB approval of an Existing Information Collection in Use Without an OMB Control Number. CDC seeks OMB approval until September 2017. This collection is a de facto extension of OMB Control number 0920-1118 (expiration date 12/31/16), an information collection request approved by OMB under an emergency review in June, 2016. This information collection request includes continuing one project which is part of CDC's ongoing response in Puerto Rico to the Zika virus outbreak.

The goal of the project is to assess the delivery and effects of interventions implemented in Puerto Rico to protect pregnant women from Zika virus infections and the birth defects that Zika virus can cause in their babies. As of February 22, 2017, interventions that have been implemented include Zika Education Sessions (at Women, Infants, and Children [WIC] clinics), Zika Prevention Kits, communications activities, and vector control services in and around the home of pregnant women [Indoor Residual Spraying (IRS), Outdoor Residual Spraying (ORS), and larviciding].

Information collected in this assessment will be used to help refine interventions that have been conducted to prevent and control Zika virus in Puerto Rico and to assess which interventions reduce risk and/or offer protection from Zika virus infections.

Telephone interviews will be conducted with pregnant women in Puerto Rico. CDC needs this assessment to ensure that Zika prevention activities effectively educate, equip, and encourage women to participate in as many Zika prevention behaviors as possible. On-going assessment is an important part of this program because it can reveal novel ways that women protect themselves from Zika, how effective the distribution of the Zika Prevention Kit has been in Puerto Rico, perceived severity and susceptibility to Zika, pregnant women's self-efficacy in protecting themselves from Zika after the interventions have been implemented, as well as the extent to which target populations are using contents of the Zika Prevention Kit.

As the outbreak evolves, interviews with pregnant women in Puerto Rico can help articulate motivations for and against engaging in Zika prevention behaviors that are critical for preventing Zika-associated birth defects and morbidities. Implementing changes based on results from this assessment has occurred with the previous information collection and is expected to facilitate program improvement and ensure the most efficient allocation of resources for this public health emergency. Understanding risk and protective factors related to interventions and behaviors of pregnant women can help to establish priorities.

There are no costs to the respondents other than their time. The total number of estimated annual burden hours is 500.

Estimated Annualized Burden Hours
Type of respondents | Form name | Number of respondents | Number of responses per respondent | Average burden per response (hrs.)
Pregnant WIC participant | Initial Telephone Interview | 1,200 | 1 | 20/60
| Follow-up Telephone Interview | 600 | 1 | 10/60

Leroy A. Richardson,
Chief, Information Collection Review Office, Office of Scientific Integrity, Office of the Associate Director for Science, Office of the Director, Centers for Disease Control and Prevention.

[FR Doc. 2017-06868 Filed 4-5-17; 8:45 am]

BILLING CODE 4163-18-P